DEPARTMENT OF DEFENSE

Office of the Secretary

[Transmittal No. 17-24]

Arms Sales Notification

AGENCY: Defense Security Cooperation Agency, Department of Defense.

ACTION: Arms sales notice.

SUMMARY: The Department of Defense is publishing the unclassified text of an arms sales notification.

FOR FURTHER INFORMATION CONTACT: Pamela Young, (703) 697-9107, pamela.a.young14.civ@mail.mil or Kathy Valadez, (703) 697-9217, kathy.a.valadez.civ@mail.mil; DSCA/DSA-RAN.

SUPPLEMENTARY INFORMATION: This 36(b)(1) arms sales notification is published to fulfill the requirements of section 155 of Public Law 104-164 dated July 21, 1996. The following is a copy of a letter to the Speaker of the House of Representatives, Transmittal 17-24 with attached Policy Justification.

Dated: April 16, 2018.
Shelly E. Finke,
Alternate OSD Federal Register Liaison Officer, Department of Defense.

BILLING CODE 5001-06-P

BILLING CODE 5001-06-C

Transmittal No. 17-24

Notice of Proposed Issuance of Letter of Offer Pursuant to Section 36(b)(1) of the Arms Export Control Act, as amended

(i) Prospective Purchaser: Government of Qatar

(ii) Total Estimated Value:

Major Defense Equipment * | $250 million
Other | $ 50 million
TOTAL | $300 million

(iii) Description and Quantity or Quantities of Articles or Services under Consideration for Purchase:

MDE: Five thousand (5,000) Advanced Precision Kill Weapon Systems (APKWS) II Guidance Sections

Non-MDE: Also included are five thousand (5,000) MK66-4 2.75 inch Rocket Motors, five thousand (5,000) High Explosive Warheads for Airborne 2.75 inch Rockets, inert MK66-4 2.75 inch Rocket Motors, Inert High Explosive Warhead for Airborne 2.75 inch Rockets, support equipment, spares, training, publications, engineering technical assistance, program management technical assistance, logistics support services, and other related elements of program support.

(iv) Military Department: U.S. Army (QA-B-WYX)

(v) Prior Related Cases, if any: QA-B-WYX, 19 Aug 14)

(vi) Sales Commission, Fee, etc., Paid, Offered, or Agreed to be Paid: None

(vii) Sensitivity of Technology Contained in the Defense Article or Defense Services Proposed to be Sold: See Attached Annex

(viii) Date Report Delivered to Congress: April 9, 2018

* As defined in Section 47(6) of the Arms Export Control Act.

POLICY JUSTIFICATION

Qatar—Five thousand (5,000) Advanced Precision Kill Weapon Systems (APKWS) and Related Equipment and Support

The Government of Qatar has requested a possible sale of five thousand (5,000) Advanced Precision Kill Weapon Systems (APKWS) II Guidance Sections. Also included are five thousand (5,000) MK66-4 2.75 inch rocket motors, five thousand (5,000) high explosive warheads for airborne 2.75 inch rockets, inert MK66-4 2.75 inch rocket motors, inert high explosive warhead for airborne 2.75 inch rockets, support equipment, spares, training, publications, engineering technical assistance, program management technical assistance, logistics support services, and other related elements of program support. The estimated total program value is $300 million.

This proposed sale supports the foreign policy and national security objectives of the United States. Qatar is an important force for political stability and economic progress in the Persian Gulf region. Our mutual defense interests anchor our relationship and the Qatar Emiri Air Force (QEAF) plays a predominant role in Qatar's defense.

Qatar intends to use these defense articles and services to modernize its armed forces. This will contribute to Qatar's military goal by providing additional capability to its new AH-64E aircraft fleet. The APKWS will provide Qatar with a low-cost precision strike capability, decreasing collateral damage and expanding its options for counterterrorism operations. Qatar will have no difficulty absorbing this equipment into its armed forces.

The proposed sale of this equipment and support will not alter the basic military balance in the region.

The principal contractor involved in this program is BAE, Nashua, New Hampshire. There are no known offset agreements proposed in connection with this potential sale.

Implementation of this proposed sale will require two U.S. Government or contractor representatives to travel to the State of Qatar for a period of one week to train in assembly and Wing Slot Seal replacement

There will be no adverse impact on U.S. defense readiness as a result of this proposed sale.

Transmittal No. 17-24

Notice of Proposed Issuance of Letter of Offer Pursuant to Section 36(b)(1) of the Arms Export Control Act

Annex

Item No. vii

(vii) Sensitivity of Technology:

1. The APKWS II All-Up-Round is an air-to-ground weapon that consists of an APKWS II Guidance Section (GS), legacy 2.75 inch MK66 Mod 4 rocket motor and legacy MK152 and MK435/436 warhead/fuse. The APKWS II GS is installed between the rocket motor and warhead and provides a Semi-Active Laser (SAL) precision capability to legacy unguided 2.75-inch rockets. The APKWS II is procured as an independent component to be mated to the appropriate 2.75-inch warhead/fuse; however, for this case the APKWS II will be delivered as an All-up-Round (AUR).

2. The GS is manually set with the appropriate laser code during loading and is launched from any platform configured with a LAU-68F/A, or similar launcher(s). After launch, the GS activates and the seeker detects laser energy reflected from a target designated with a remote or autonomous laser. The control system then guides the rocket to the target.

3. The only interface required with the host platform is a 28V Direct Current (DC) firing pulse.

4. APKWS II increases stowed kills by providing precise engagements at standoff ranges with sufficient accuracy for a high single-shot probability of hit against soft and lightly armored targets, thereby minimizing collateral damage. The APKWS II is capable of day and night operations and performance is many adverse environments.

5. All training for APKWS II is UNCLASSIFIED. The training required is: pilot training to effectively employ the APKWS II, ordnance handler for safe handling and preparation of the APKWS II and AUR, and maintenance training for replacement of the Wing Slot Seal (WSS).

6. All defense articles and services listed in this transmittal are authorized for release and export to the State of Qatar.

[FR Doc. 2018-08214 Filed 4-18-18; 8:45 am]

BILLING CODE 5001-06-P